DEPARTMENT OF THE INTERIOR

Bureau of Land Management

[BLM_AK_FRN_MO4500174129]

Notice of Availability of the Ambler Road Draft Supplemental Environmental Impact Statement, Alaska

AGENCY: Bureau of Land Management, Interior.

ACTION: Notice of availability.

SUMMARY: In compliance with the National Environmental Policy Act of 1969, as amended, and the Federal Land Policy and Management Act of 1976, as amended, the Bureau of Land Management (BLM) announces the availability of a Draft Supplemental Environmental Impact Statement (EIS) for the proposed Ambler Road project.

DATES: To afford the BLM the opportunity to consider comments in the Final Supplemental EIS, please ensure that the BLM receives your comments within 60 days following the date the Environmental Protection Agency (EPA) publishes its Notice of Availability (NOA) of the Draft Supplemental EIS in the Federal Register. The EPA usually publishes its NOAs on Fridays. The BLM will hold public meetings and subsistence hearings in the vicinity of potentially affected communities. The dates, times, and locations of the meetings will be announced in advance through public notices, media releases, and/or mailings.

ADDRESSES: The Draft Supplemental EIS is available for review on the BLM ePlanning project website at https://www.blm.gov/AmblerRoadEIS. You may submit written comments related to the Ambler Road Draft Supplemental EIS by any of the following methods:

• Website: https://www.blm.gov/AmblerRoadEIS.

• Mail: Ambler Road Draft Supplemental EIS Comments, BLM Fairbanks District Office, 222 University Avenue, Fairbanks AK 99709.

• Hand Deliver comments to: BLM, 222 University Avenue, Fairbanks, Alaska 99709.

Documents pertinent to this proposal may be examined: online at https://www.blm.gov/AmblerRoadEIS; at the BLM Alaska State Office, BLM Alaska Public Information Center, 222 West 7th Avenue (First Floor), Anchorage, Alaska; or at the Fairbanks District Office, 222 University Avenue, Fairbanks, Alaska.

FOR FURTHER INFORMATION CONTACT: Stacie McIntosh, Ambler Road Supplemental EIS Project Manager, telephone: 907-474-2398; email address: s05mcint@blm.gov. You may also request to be added to the mailing list for the Supplemental EIS.

Individuals in the United States who are deaf, deafblind, hard of hearing, or have a speech disability may dial 711 (TTY, TDD, or TeleBraille) to access telecommunications relay services for contacting Ms. McIntosh. Individuals outside the United States should use the relay services offered within their country to make international calls to the point-of-contact in the United States.

SUPPLEMENTARY INFORMATION: The BLM has prepared the Ambler Road Draft Supplemental EIS. The Draft Supplemental EIS is in response to an application for an industrial road right-of-way (ROW) in north-central Alaska across federal public lands and other lands that was initially approved through a Joint Record of Decision (JROD) issued in July 2020, by the BLM and the U.S. Army Corps of Engineers, after publication of the original Ambler Road EIS in March 2020. The road would run from the existing Dalton Highway to the Ambler Mining District. The area involved lies south of the Brooks Range, north of the Yukon River, west of the Dalton Highway and east of the Purcell Mountains. The Alaska Industrial Development and Export Authority, a public corporation of the State of Alaska, is the applicant.

In May 2022, in two lawsuits challenging the JROD and associated environmental analyses, the U.S. District Court for the District of Alaska (District Court) granted voluntary remand at the request of the Department of the Interior (DOI) due to deficiencies in the BLM's analysis of subsistence impacts under Alaska National Interest Lands Conservation Act (ANILCA) Section 810 and consultation with Tribes pursuant to Section 106 of the National Historic Preservation Act (NHPA). In the motion for remand, the DOI committed to address the identified legal deficiencies, consider new information about declines in salmon and caribou populations, reconsider the appropriate scope of the area of potential effects for purposes of the NHPA, and supplement the EIS, as appropriate, to more thoroughly assess the impacts and resources identified as areas of concern in the two lawsuits challenging the now-remanded JROD.

The Draft Supplemental EIS analyzes: the No Action Alternative; Alternative A, the applicant's 211 mile-long proposed road alignment beginning at Mile 161 of the Dalton Highway and extending west, ending at the Ambler River; Alternative B, which starts and ends in the same location as Alternative A but contains a shorter route through Gates of the Arctic National Preserve; and Alternative C, an alternate route that starts at Mile 59.5 of the Dalton Highway and extends 332 miles northwest, ending at the Ambler River. The Army Corps of Engineers is a cooperating agency on the Supplemental EIS.

Section 810 of ANILCA requires BLM to evaluate the effects of the alternatives presented in the Draft Supplemental EIS on subsistence uses and needs, and to hold public hearings if it finds that any alternative may significantly restrict subsistence uses. The BLM has found in the evaluation of subsistence impacts that Alternatives A, B, and C and the cumulative case analyzed in the Draft Supplemental EIS may significantly restrict subsistence uses in multiple communities. Therefore, the BLM will hold public hearings on subsistence resources and activities in conjunction with the public meetings on the Draft Supplemental EIS in the vicinity of potentially affected communities. Information about subsistence hearings will be available on the project website listed in the ADDRESSES section, and will be announced through additional public notices, news releases, and mailings.

The input of Alaska Native Tribes and Corporations is of critical importance to this Supplemental EIS. Therefore, during the NEPA process, the BLM will continue to consult with potentially affected federally recognized Tribes on a government-to-government basis, and with affected Alaska Native Corporations in accordance with Executive Order 13175, as well as Public Law 108-199, Div. H, sec. 161, 118 Stat. 452, as amended by Public Law 108-447, Div. H, sec. 518, 118 Stat. 3267, and other Department and Bureau policies. We respectfully request participation in consultation by Alaska Native Tribes and Alaska Native Corporations to provide their views and recommendations on the analysis, including effects from the proposed activities. The BLM will hold individual consultation meetings upon request.

It is important that reviewers provide their comments at such times and in such manner as are useful to the agency's preparation of the Final Supplemental EIS. Therefore, comments should be provided prior to the close of the comment period and should clearly articulate the reviewer's concerns and contentions. Comments received in response to this solicitation, including names and addresses of those who comment, will be part of the public record for this proposed action. Comments submitted anonymously will be accepted and considered.

Before including your address, phone number, email address, or other personal identifying information in your comment, you should be aware that your entire comment—including your personal identifying information—may be made publicly available at any time. While you can ask us in your comment to withhold your personal identifying information from public review, we cannot guarantee that we will be able to do so.

Authority: 40 CFR 1506.6(b)

Steven M. Cohn,
State Director, Alaska.

[FR Doc. 2023-22870 Filed 10-19-23; 8:45 am]

BILLING CODE 4331-10-P